DEPARTMENT OF ENERGY

Federal Energy Regulatory Commission

[Docket No. EL00-83-005, et al.

NSTAR Services Company, Electric Rate and Corporate Regulation Filings

March 23, 2001.

Take notice that the following filings have been made with the Commission:

1. NSTAR Services Company v. New England Power Pool; ISO New England, Inc.

[Docket Nos. EL00-83-005; ER00-2811-005; ER00-2937-003; EL00-62-023; and ER00-2052-010]

Take notice that on March 19, 2001, the New England Power Pool (NEPOOL) Participants Committee submitted revisions to its Market Rules in response to requirements of the Commission's July 26, 2000 order in Docket Nos. EL00-83-000, EL00-83-001, ER00-2811-000, ER00-2811-001, ER00-2937-000, EL00-62-000 and ER00-2052-000. New England Power Pool, 92 FERC 61,065 (2000). NEPOOL has requested an effective date of May 18, 2001.

The NEPOOL Participants Committee states that copies of these materials were sent to all persons identified on the service lists in the captioned proceedings, the NEPOOL Participants and the six New England state governors and regulatory commissions.

Comment date: April 9, 2001, in accordance with Standard Paragraph E at the end of this notice.

2. Point Arquello Pipeline Company

[Docket Nos. EL01-54-000 and QF84-486-001]

Take notice that on March 15, 2001, Point Arquello Pipeline Company, a California general partnership with its principal place of business at 17100 Calle Mariposa Reina, Goleta, California, 93117, filed in the above-captioned docket, pursuant to 18 CFR 292.205(c), a petition for a limited waiver of the efficiency standard set forth in 18 CFR 292.205(a)(2)(i)(A).

Comment date: April 16, 2001, in accordance with Standard Paragraph E at the end of this notice.

3. California Independent System Operator Corporation

[Docket No. ER01-1579-000]

Take notice that on March 20, 2001, the California Independent System Operator Corporation (ISO) tendered for filing Amendment No. 38 to the ISO Tariff. The ISO states that Amendment No. 38 is intended modify the ISO Tariff in two respects. First, Amendment No. 38 would allow the ISO to suspend the Load underscheduling penalty from January 1, 2001 through May 31, 2001. Second, Amendment No. 38 would modify the Imbalance Energy Market to allow energy from contingency-only operating reserves to be separated (or ordered) in real time Energy procurement from Operating Reserve energy that can be used for real time imbalance in the real time Imbalance Energy market (or BEEP) Stack.

The ISO requests waiver of the Commission's notice requirements and an effective date for the suspension of the underscheduling penalty of January 1, 2001.

The ISO states that this filing has been served on the California Public Utilities Commission and all California ISO Scheduling Coordinators.

4. Southern California Edison Company

[Docket No. ER01-1578-000]

Take notice, that on March 20, 2001, Southern California Edison Company (ASCE) tendered for filing the Mountain View 1 Project Expedited Service and Interconnection (Agreement) between SCE and Mountain View Power Partners, LLC.

SCE requests that the Agreement will become effective on March 21, 2001.

Copies of this filing were served upon the Public Utilities Commission of the State of California and Mountain View Power Partners, LLC.

Comment date: April 10, 2001, in accordance with Standard Paragraph E at the end of this notice.

5. Southwest Power Pool, Inc.

[Docket No. ER01-1580-000]

Take notice that on March 20, 2001, Southwest Power Pool, Inc. (SPP) tendered for filing executed service agreements for Firm Point-to-Point Transmission Service, Non-Firm Point-to-Point Transmission Service, and Loss Compensation Service with Axia Energy, LP, Conoco Gas & Power Marketing, a Division of Conoco Inc., and Split Rock Energy LLC (collectively, Transmission Customers). SPP seeks an effective date of March 1, 2001 for each of these service agreements.

Copies of this filing have been served on each of the Transmission Customers.

Comment date: April 10, 2001, in accordance with Standard Paragraph E at the end of this notice.

6. California Independent System Operator Corporation

[Docket No. ER01-1581-000]

Take notice that on March 20, 2001, the California Independent System Operator Corporation (ISO) tendered for filing for informational purpose the Summer Reliability Agreement of NRG Energy Center Round Mountain LLC, a non-jurisdictional Generating Facility, that has contracted with the ISO to provide new generation to the ISO for reliability purposes during summer periods. The agreement became effective as of the date it was executed.

The ISO states that this filing has been served upon the California Public Utilities Commission, the California Energy Commission, and the California Electricity Oversight Board.

Comment date: April 10, 2001, in accordance with Standard Paragraph E at the end of this notice.

7. Wisconsin Public Service Corporation

[Docket No. ER01-1582-000]

Take notice that on March 20, 2001, Wisconsin Public Service Corporation (WPSC) tendered for filing an executed Service Agreement with WE Power Marketing providing for transmission service under FERC Electric Tariff, Volume No. 1.

Comment date: April 10, 2001, in accordance with Standard Paragraph E at the end of this notice.

8. Louisville Gas and Electric Company/Kentucky Utilities Company

[Docket No. ER01-1583-000]

Take notice that on March 20, 2001, Louisville Gas and Electric Company (LG&E)/Kentucky Utilities (KU) (hereinafter Companies) tendered for filing an executed transmission service agreement with The Cincinnati Gas and Electric Company, PSI Energy, Inc. (collectively Cinergy Operating Companies) and Cinergy Services, Inc. as agent for and on behalf of the Cinergy Operating Companies. This agreement allows The Cinergy Operating Companies and its agent Cinergy Services, Inc. to take firm point-to-point transmission service from LG&E/KU.

The point of receipt is CINERGY and the point of delivery is TVA. (OASIS #69515860 and OASIS #69515854)

Comment date: April 10, 2001, in accordance with Standard Paragraph E at the end of this notice.

9. Allegheny Energy Service Corporation, on Behalf of Monongahela Power Company, The Potomac Edison Company, and West Penn Power Company, (Allegheny Power)

[Docket No. ER01-1584-000]

Take notice that on March 20, 2001, Allegheny Energy Service Corporation on behalf of Monongahela Power Company, The Potomac Edison Company and West Penn Power Company (Allegheny Power), filed Service Agreement Nos. 347 and 348 to add Axia Energy, LP to Allegheny Power's Open Access Transmission Service Tariff which has been accepted for filing by the Federal Energy Regulatory Commission in Docket No. ER96-58-000.

The proposed effective date under the Service Agreements is March 19, 2001 or a date ordered by the Commission.

Comment date: April 10, 2001, in accordance with Standard Paragraph E at the end of this notice.

10. Exelon Generation Company, LLC

[Docket No. ER01-1585-000]

Take notice that on March 20, 2001, Exelon Generation Company, LLC (Exelon Generation) submitted for filing with the Federal Energy Regulatory Commission (FERC or the Commission) a service agreement for wholesale power sales transactions between Exelon Generation and Orion Power MidWest, L.P. under Exelon Generation's wholesale power sales tariff, FERC Electric Tariff, Original Volume No. 1.

Comment date: April 10, 2001, in accordance with Standard Paragraph E at the end of this notice.

11. Southern California Edison Company

[Docket No. ER01-761-001]

Take notice that on March 20, 2001, Southern California Edison Company (SCE) tendered for filing revised rate sheets to its Transmission Owner Tariff in compliance with the Commission's order in this docket dated February 21, 2001 (94 FERC ¶ 61,153).

Copies of this filing were served upon the parties whose names appear on the official service list compiled for this docket.

Comment date: April 10, 2001, in accordance with Standard Paragraph E at the end of this notice.

12. Wisconsin Electric Power Company

[Docket Nos. ER01-678-000 and ER01-678-001]

Take notice that on March 20, 2001, Wisconsin Electric Power Company (Wisconsin Electric) submitted a letter to the Federal Energy Regulatory Commission withdrawing its filings in Docket Nos. ER01-678-000 and ER01-678-001. The withdrawal was made because the submissions in Docket Nos. ER01-678-000 and ER01-678-001 long-term service agreements for firm transmission service were filed by Wisconsin Electric, and accepted for filing by the Federal Energy Regulatory Commission, in Docket No. ER01-710-000.

Comment date: April 10, 2001, in accordance with Standard Paragraph E at the end of this notice.

13. Entergy Services, Inc.

[Docket Nos. ER95-112-012; ER96-586-007 (Not consolidated)]

Take notice that on March 20, 2001, Entergy Services, Inc. (Entergy Services), on behalf of Entergy Arkansas, Inc., Entergy Gulf States, Inc., Entergy Mississippi, Inc., Entergy Louisiana, Inc., and Entergy New Orleans, Inc., (collectively, the Entergy Operating Companies), tendered for filing in the above-captioned dockets its Order No. 614 compliance Open Access Transmission Tariff.

Comment date: April 10, 2001, in accordance with Standard Paragraph E at the end of this notice.

14. Southwest Power Pool, Inc.

[Docket No. ER01-1070-001]

Take notice that on March 20, 2001, Southwest Power Pool, Inc. (SPP) tendered for filing certain information intended to supplement its January 26, 2001 filing in Docket No. ER01-1070.

Comment date: April 10, 2001, in accordance with Standard Paragraph E at the end of this notice.

Standard Paragraph

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance). Comments, protests, and interventions may be filed electronically via the internet in lieu of paper. See, 18 CFR 385.2001(a)(1)(iii) and the instructions on the Commission's web site at

http://www.ferc.fed.us/efi/doorbell.htm.

David P. Boergers,
Secretary.

[FR Doc. 01-7847 Filed 3-29-01; 8:45 am]

BILLING CODE 6717-01-P